NUCLEAR REGULATORY COMMISSION

Workshop To Discuss Combined License Topic 10 (COL-10), 10 CFR Part 52 Subpart C Emergency Planning Inspections, Tests, Analyses, and Acceptance Criteria (ITAAC)

AGENCY: Nuclear Regulatory Commission.

ACTION: Notice of April 27, 2004, public workshop.

SUMMARY: The Nuclear Regulatory Commission (NRC) is holding a workshop on April 27, 2004, to solicit comments on draft proposed emergency planning inspections, tests, analyses, and acceptance criteria (ITAAC). The NRC staff, in consultation with the Department of Homeland Security/Federal Emergency Management Agency (DHS/FEMA), crafted the draft proposed EP ITAAC, which addresses 15 of the 16 EP planning standards in title 10 of Code of Federal Regulations part 50, § 50.47(b), and NUREG-0654/FEMA-REP-1, Rev. 1, “Criteria for Preparation and Evaluation of Radiological Emergency Response Plans and Preparedness in Support of Nuclear Power Plants” (NUREG-0654). (The excluded planning standard, 50.47(b)(13), pertains to the development of general plans for recovery and reentry, and was determined to not be applicable to EP ITAAC). The draft proposed EP ITAAC are available for public inspection in the Agencywide Document Access and Management System (ADAMS), Accession No. ML 033010440, and as described below. The NRC staff has scheduled the public workshop to discuss the draft proposed EP ITAAC issues and to solicit stakeholder comments on the staff's draft proposal. This workshop will be transcribed. To allow for timely registration on the day of the meeting, it is recommended that guests pre-register for the workshop. To pre-register for the workshop, contact Mr. Raj Anand (information provided below) and provide the following information: name, organization, phone number, and country of citizenship.

FOR FURTHER INFORMATION CONTACT: Mr. Raj K. Anand, New, Research and Test Reactors Program, U.S. Nuclear Regulatory Commission, Washington, DC 20555-0001. Mr. Anand can be reached by telephone at 301-415-1146, or by e-mail at rka@nrc.gov. Questions regarding the public meeting process should be directed to Mr. Francis (Chip) Cameron, Office of the General Counsel, U.S. Nuclear Regulatory Commission, Washington, DC 20555-0001, by telephone 301-415-1642, or by e-mail at fxc@nrc.gov

DATES: The workshop will be held on April 27, 2004, from 10:30 a.m. to 4:30 p.m. Written comments on the NRC staff's draft proposed EP ITAAC should be submitted by May 27, 2004. Comments received after this date will be considered if it is practical to do so, but the Commission is able to assure consideration only for comments received on or before this date.

ADDRESSES: The workshop will be held at the Nuclear Regulatory Commission offices in the Two White Flint North Auditorium, 11545 Rockville Pike, Rockville, Maryland.

The NRC staff's draft proposed EP ITAAC are available for public inspection in the Agencywide Document Access and Management System (ADAMS) in the NRC Public Document Room, located at One White Flint North, 11555 Rockville Pike, Public File Area O-1F21, Rockville, Maryland. The information is also available electronically from the Publicly Available Records (PARS) component of ADAMS (ADAMS Accession No. ML033010440). ADAMS is accessible from the NRC's Web site at http://www.nrc.gov/reading-rm/adams.html (Public Electronic Reading Room). For more information, contact the NRC Public Document Room (PDR) Reference staff at 800-397-4209, 202-634-3273, or by email at pdr@nrc.gov. In addition, the draft proposed EP ITAAC and additional associated documentation can be found on NRC's Web site under the Combined Licenses discussion on the following Web page: http://www@nrc.gov/reactors/new-licensing/licensing-process.html.

Written comments on the draft proposal may be sent to: Chief, Rules and Directives Branch, Division of Administrative Services, Office of Administration, Mail Stop T-6D59, Nuclear Regulatory Commission, Washington, DC 20555-0001. Comments may also be hand-delivered to the NRC at 11545 Rockville Pike, Rockville, Maryland, between the hours of 7:45 a.m. and 4:15 p.m. on Federal workdays, or submitted electronically by e-mail at nrcrep@nrc.gov. All comments received by the Commission, including those made by Federal, State, and local agencies, Indian tribes, or other interested persons, will be made available at the Commission's PDR in Rockville, Maryland, or electronically from the PARS component of NRC's document system (ADAMS).

SUPPLEMENTARY INFORMATION: In 1989, the NRC established new alternatives for nuclear plant licensing under title 10 of the Code of Federal Regulations (10 CFR) part 52, which describe, among other things, a process for issuing a combined construction and operating license, referred to as a combined license (COL). A COL authorizes construction and, with conditions, operation of a nuclear power plant. A COL application must describe the license conditions (i.e., inspections, tests, analyses, and acceptance criteria, referred to as ITAAC) that are necessary to ensure that the plant has been properly constructed and will operate safely. After issuing a COL, the NRC would verify that the licensee completed the required ITAAC before initial loading of fuel into the plant. The NRC would publish notices of the successful completion of the ITAAC. Following successful completion of all ITAAC, and not less than 180 days before the date scheduled for initial loading of nuclear fuel into the reactor, the NRC would publish in the Federal Register a notice of intended operation. The notice would provide that any person whose interest may be affected by operation of the plant may, within 60 days, request that the Commission hold a hearing on whether the facility as constructed complies, or on completion will comply, with the acceptance criteria of the COL. A request for a hearing must show, prima facie, that (1) one or more of the acceptance criteria in the COL have not been, or will not be met, and (2) the specific operational consequences of non-conformance that would be contrary to providing reasonable assurance of adequate protection of the public health and safety.

The development of EP ITAAC is part of an NRC effort to develop guidance related to the structure and content of prospective COL applications, which would be submitted under subpart C of 10 CFR part 52. The draft proposed EP ITAAC reflect the current collective efforts of NRC and FEMA staff to provide this guidance, while incorporating various lessons learned from previous design certification reviews under subpart B of 10 CFR part 52.

The staff proposes to discuss the following issues with interested stakeholders:

1. The draft proposed EP ITAAC contain high-level generic acceptance criteria. These criteria were adapted from those found in NUREG-0654. It is expected that a COL applicant will be able to provide more detailed EP ITAAC that are site-specific at the COL application stage. Such detailed EP ITAAC would satisfy the intent of the proposed generic EP ITAAC. Among the questions the staff will address with the interested stakeholders is whether it is necessary to capture guidance related to providing detailed EP ITAAC and, if so, what the best way is to capture such guidance.

2. The offsite acceptance criteria in the draft proposed EP ITAAC assume State and local government participation. If State and local officials terminate or limit their cooperation between the time of COL issuance and fuel loading, the draft proposed EP ITAAC may no longer be valid. In that case, the EP ITAAC incorporated in the license under 10 CFR 52.97(b)(1) would have to be changed by a license amendment, in accordance with 10 CFR 52.97(b)(2)(i). The staff will discuss with stakeholders the feasibility of developing offsite EP ITAAC, that cover both possibilities (i.e., assuming State and local government participation, as well as non-participation).

3. The draft proposed EP ITAAC contain references to emergency plans. The staff attempted to distinguish those issues which should be resolved prior to issuance of a COL from those which can be resolved only after issuance of a COL. For example, the emergency plans and the EP ITAAC would be reviewed and approved prior to granting a COL, while compliance with the ITAAC would be assessed post-licensing, using the ITAAC to verify the implementation of the emergency plans. The staff will discuss stakeholder views on the need for clarification of the draft proposed EP ITAAC, in order to separate those issues which should be resolved prior to issuance of a COL from those which can be resolved only after the COL is issued.

4. Compliance with some of the ITAAC in the draft proposed EP ITAAC could be assessed concurrently. Discussions with stakeholders will include this concurrent review and its implications.

An agenda for the workshop will be developed and made available prior to the April 27, 2004, public workshop. In order to assure a diversity of viewpoints, the NRC is inviting stakeholders from the nuclear power industry, representatives from citizens groups, and State and local agencies to sit in a round table discussion. Although the focus of the public workshop will be on the round table discussion, there will be opportunities for members of the audience to offer comments and ask questions at the workshop.

Prior to the workshop, questions relating to the staff's draft proposed EP ITAAC can be directed to Mr. Raj Anand. Questions related to the public meeting process should be directed to Mr. Francis Cameron. Contact information for Messrs. Anand and Cameron is provided above.

Dated at Rockville, Maryland, this 4th day of March, 2004.
For the Nuclear Regulatory Commission.
James E. Lyons,
Program Director, New, Research and Test Reactors Program, Division of Regulatory Improvement Programs, Office of Nuclear Reactor Regulation.

[FR Doc. 04-5341 Filed 3-9-04; 8:45 am]

BILLING CODE 7590-01-P